NUCLEAR REGULATORY COMMISSION

10 CFR Part 72

[NRC-2022-0105]

RIN 3150-AK84

List of Approved Spent Fuel Storage Casks: Holtec International HI-STORM Flood/Wind Multipurpose Canister Storage System, Certificate of Compliance No. 1032, Amendment No. 8

AGENCY: Nuclear Regulatory Commission.

ACTION: Direct final rule; confirmation of effective date.

SUMMARY: The U.S. Nuclear Regulatory Commission (NRC) is confirming the effective date of October 11, 2022, for the direct final rule that was published in the Federal Register on July 26, 2022. This direct final rule amends the Holtec International HI-STORM Flood/Wind Multipurpose Canister Storage System in the “List of approved spent fuel storage casks” to include Amendment No. 8 of Certificate of Compliance No. 1032. Amendment No. 8 also incorporates other minor editorial corrections.

DATES: The effective date of October 11, 2022, for the direct final rule published July 26, 2022 (87 FR 44273), is confirmed.

ADDRESSES: Please refer to Docket ID NRC-2022-0105 when contacting the NRC about the availability of information for this action. You may obtain publicly available information related to this action by any of the following methods:

• Federal Rulemaking Website: Go to https://www.regulations.gov and search for Docket ID NRC-2022-0105. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The amendment to the certificate of compliance, the changes to the technical specifications, and the safety evaluation report can be viewed in ADAMS under Accession No. ML22242A214.

• NRC's PDR: You may examine and purchase copies of public documents, by appointment, at the NRC's PDR, Room P1 B35, One White Flint North, 11555 Rockville Pike, Maryland 20852. To make an appointment to visit the PDR, please send an email to PDR.Resource@nrc.gov or call 1-800-397-4209 or 301-415-4737, between 8:00 a.m. and 4:00 p.m. eastern time (ET), Monday through Friday, except Federal holidays.

FOR FURTHER INFORMATION CONTACT: James Firth, Office of Nuclear Material Safety and Safeguards, U.S. Nuclear Regulatory Commission; telephone: 301-415-6628; email: James.Firth@nrc.gov.

SUPPLEMENTARY INFORMATION: On July 26, 2022 (87 FR 44273), the NRC published a direct final rule amending its regulations in part 72 of title 10 of the Code of Federal Regulations to revise the Holtec International HI-STORM Flood/Wind Multipurpose Canister Storage System listing within the “List of approved spent fuel storage casks” to include Amendment No. 8 to Certificate of Compliance No. 1032. Amendment No. 8 revises the description in the certificate of compliance for the HI-STORM Flood/Wind system to clearly indicate that only the portions of the components that contact the pool water need to be made of stainless steel or aluminum. Amendment No. 8 also incorporates other minor editorial corrections.

In the direct final rule published on July 26, 2022, the NRC stated that if no significant adverse comments were received, the direct final rule would become effective on October 11, 2022. The NRC did not receive any comments on the direct final rule. Therefore, this direct final rule will become effective as scheduled.

Dated: September 15, 2022.
For the Nuclear Regulatory Commission.
Cindy K. Bladey,
Chief, Regulatory Analysis and Rulemaking Support Branch, Division of Rulemaking, Environmental, and Financial Support Office of Nuclear Material Safety and Safeguards.

[FR Doc. 2022-20349 Filed 9-20-22; 8:45 am]

BILLING CODE 7590-01-P